Proclamation 10796 of August 30, 2024

National Ovarian Cancer Awareness Month, 2024

By the President of the United States of America

A Proclamation

Too many Americans know the pain of losing a mother, sister, wife, daughter, or friend to ovarian cancer—the deadliest of all female reproductive system cancers. This year alone, nearly 20,000 women will be diagnosed with this terrible disease. During National Ovarian Cancer Awareness Month, we honor the memories of all the women we have tragically lost. We reaffirm our support for all the brave women living with ovarian cancer and all those who have survived it. And we thank their loved ones, who stand loyally by their side, and the medical researchers, health care providers, and caretakers who fight tirelessly to save lives every day.

In our decades-long fight to find cures for cancers, scientists have made incredible breakthroughs and discovered better ways to prevent, detect, and treat them. But for ovarian cancer, in particular, there remains no reliable method for asymptomatic screening and detection, which can delay a diagnosis until the cancer has become deadly. Even after a diagnosis has been made, the flood of medical information, appointments, procedures, and financial expenses is overwhelming. And too often, families, caregivers, and patients are left to advocate for themselves for effective care.

Jill and I know from personal experience that a cancer diagnosis takes a severe toll on the whole family. That is why I made fighting cancer a top priority for our Administration. I reignited the Biden Cancer Moonshot with the goal of cutting the cancer death rate by at least 50 percent over 25 years and improving the experience of patients and loved ones. I established the Advanced Research Projects Agency for Health, securing $4 billion in bipartisan funding to support scientists, innovators, and public health professionals who are pioneering efforts to prevent, detect, and treat cancer and other life-threatening and life-altering diseases. And we delivered new reimbursement codes so that, for the first time ever, families facing cancer can get patient navigation services paid for through Medicare, Medicaid, and private insurance. Cancer navigation services are personalized assistance to patients, caregivers, and families to help guide them through the many decisions and challenges that come with a cancer diagnosis, which has been shown to reduce cancer disparities, improve health outcomes, and make an enormous difference in people's lives.

My Administration has also been working hard to make cancer treatments more affordable. I am proud to strengthen Medicaid and the Affordable Care Act (ACA) by expanding health care coverage to millions of Americans—saving millions of families $800 per year on health insurance premiums. And through the Inflation Reduction Act, we are capping total out-of-pocket prescription drug costs for seniors and others with Medicare at $2,000 per year—including for ovarian cancer medications, which can cost more than $10,000 per year.

Additionally, because early detection is essential to beating ovarian cancer, my Administration is working to ensure that every American can access life-saving cancer screenings. During my first year in office, we expanded coverage under the ACA, which requires insurers to pay for recommended cancer screenings and primary care visits. I encourage all women to discuss risk factors with their doctors and remain vigilant against symptoms. Experts recommend that patients with a personal or family history of breast or ovarian cancer—or whose ancestry is associated with harmful gene variants—discuss risk factors with their doctors to see if genetic counseling and testing is appropriate.

During National Ovarian Cancer Awareness Month, let us resolve to doing all we can together to provide patients, survivors, and their families the treatments, care, and support they need and deserve. Let us rededicate ourselves to the urgent work of increasing awareness about ovarian cancer so that we can save more lives more quickly. And let us never lose hope or waver in our resolve to ending cancer as we know it—for all the lives lost and all those we can still save.

NOW, THEREFORE, I, JOSEPH R. BIDEN JR., President of the United States of America, by virtue of the authority vested in me by the Constitution and the laws of the United States, do hereby proclaim September 2024 as National Ovarian Cancer Awareness Month. I call upon the people of the United States to speak with their doctors and health care providers to learn more about ovarian cancer. I encourage citizens, government agencies, private businesses, nonprofit organizations, the media, and other interested groups to increase awareness of what Americans can do to detect and treat ovarian cancer.

IN WITNESS WHEREOF, I have hereunto set my hand this thirtieth day of August, in the year of our Lord two thousand twenty-four, and of the Independence of the United States of America the two hundred and forty-ninth.

[FR Doc. 2024-20122

Filed 9-4-24; 8:45 am]

Billing code 3395-F4-P